ENVIRONMENTAL PROTECTION AGENCY

[FRL-10279-01-R2]

Proposed CERCLA Cost Recovery Settlement for the Jewett White Lead Company Superfund Site, Located on Staten Island, Richmond County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement (“Settlement”) pursuant to CERCLA with NL Industries, Inc. (“NL”), Moran Towing Corporation and Moran Shipyard Corporation (jointly referred to as “Moran”), and Perfetto Realty, Co. Inc. (collectively, the “Settling Parties”) for the Jewett White Lead Company Superfund Site, located on Staten Island, Richmond County, New York (the “Site”).

DATES: Comments must be submitted on or before January 20, 2023.

ADDRESSES: Requests for copies of the proposed Settlement and the submission of comments must be via electronic mail. Comments should reference the Jewett White Lead Company Superfund Site, Index No. CERCLA-02-2023-2007. For those unable to communicate via electronic mail, please contact the EPA employee identified below.

FOR FURTHER INFORMATION CONTACT: Henry Guzman, Assistant Regional Counsel, Office of Regional Counsel, U.S. Environmental Protection Agency, 290 Broadway, 17th Floor, New York, NY 10007-1866. Email: guzman.henry@epa.gov Telephone: 212-637-3166.

SUPPLEMENTARY INFORMATION: The Settling Parties will pay a total of $1,000,000 to the EPA Hazardous Substance Superfund in reimbursement of EPA's past response costs paid in connection with the Site. Moran shall pay $200,000, NL shall pay $600,000, and Perfetto shall pay $200,000. These payments shall be made within thirty (30) days of the effective date of the Settlement. The Settlement includes a covenant by EPA not to sue or to take administrative action against the Settling Parties pursuant to section 107(a) of CERCLA, 42 U.S.C. 9607(a), to recover EPA's past response costs as provided in the Settlement. For thirty (30) days following the date of publication of this notice, EPA will accept any written comments relating to the Settlement. EPA will consider all comments received and may modify or withdraw its consent to the Settlement if comments received disclose facts or considerations that indicate that the proposed Settlement is inappropriate, improper, or inadequate. EPA's response to any comments received will be available for public inspection at EPA Region 2, 290 Broadway, New York, New York 10007-1866.

Pasquale Evangelista,
Director, Superfund & Emergency Management Division, Environmental Protection Agency, Region 2.

[FR Doc. 2022-27742 Filed 12-20-22; 8:45 am]

BILLING CODE 6560-50-P